DEPARTMENT OF THE TREASURY

Financial Crimes Enforcement Network

31 CFR Parts 1010

Financial Crimes Enforcement Network; Inflation Adjustment of Civil Monetary Penalties; Correction

AGENCY: Financial Crimes Enforcement Network (“FinCEN”), Treasury.

ACTION: Correcting amendments.

SUMMARY: On March 19, 2018, FinCEN published a final rule to make the 2018 annual adjustment to its civil monetary penalties (“CMPs”) for inflation as mandated by the Federal Civil Penalties Inflation Adjustment Act of 1990, as amended by the Federal Civil Penalties Inflation Adjustment Act Improvements Act of 2015 (collectively referred to herein as “the Act”). The final rule adjusted CMPs within the jurisdiction of FinCEN to the maximum amount required by the Act for 2018. However, that final rule inadvertently used the 2017 annual adjustment penalty assessment dates in the penalty adjustment table, as opposed to using the 2018 annual adjustment penalty assessment dates. This document corrects the penalty assessment dates in the penalty adjustment table for the 2018 annual adjustment.

DATES: Effective October 1, 2019, and applicable beginning March 19, 2018.

FOR FURTHER INFORMATION CONTACT: The FinCEN Resource Center at (800) 767-2825 or email frc@fincen.gov.

SUPPLEMENTARY INFORMATION:

Background

In order to improve the effectiveness of CMPs and to maintain their deterrent effect, the Act requires Federal agencies to adjust each CMP provided by law within the jurisdiction of the agency. The Act requires agencies to adjust the level of CMPs with an initial “catch-up” adjustment through an interim final rulemaking and to make subsequent annual adjustments for inflation, without needing to provide notice and the opportunity for public comment required by 5 U.S.C. 553. The Act provides that any increase in a CMP shall apply to CMPs that are assessed after the date the increase takes effect, regardless of whether the underlying violation predated such increase.¹

¹ However, the increased CMPs apply only with respect to underlying violations occurring after the date of enactment of the Act, i.e., after November 2, 2015.

The 2018 annual adjustment for FinCEN's regulations was published March 19, 2018 (83 FR 11876). That document inadvertently used the 2017 annual adjustment dates in the headings of columns 4 and 5 of the penalty table.

List of Subjects in 31 CFR Part 1010

Authority delegations (Government agencies), Banks and banking, Currency, Investigations, Law enforcement, Reporting and recordkeeping requirements.

Authority and Issuance

For the reasons set forth in the preamble, Part 1010 of Chapter X of title 31 of the Code of Federal Regulations is amended as follows:

PART 1010—GENERAL PROVISIONS

1. The authority citation for part 1010 continues to read as follows:

Authority: 12 U.S.C. 1829b and 1951-1959; 31 U.S.C. 5311-5314 and 5316-5332; title III, sec. 314, Pub. L. 107-56, 115 Stat. 307; sec. 701. Pub. L. 114-74, 129 Stat. 599.

2. In § 1010.821, amend paragraph (b) by revising the column headings to table 1 to § 1010.821 to read as follows:

§ 1010.821 Penalty adjustment and table.

* * * * *

(b) * * *

Table 1 of § 1010.821—Penalty Adjustment Table
| U.S. Code citation | Civil monetary penalty description | Penalties as last amended by statute | New maximum penalty amounts or range of minimum and maximum penalty amounts for penalties assessed after 1/15/2017 but before 3/19/2018
* * * * * * *

* * * * *

Jamal El-Hindi,
Deputy Director, Financial Crimes Enforcement Network.

[FR Doc. 2019-21156 Filed 9-30-19; 8:45 am]

BILLING CODE 4810-02-P